DEPARTMENT OF JUSTICE

Notice of Filing of Proposed Settlement Agreement Under the Comprehensive Environmental Response, Compensation, and Liability Act

On July 14, 2017, a proposed Settlement Agreement among the Governments (United States, five States, seven Tribes, the Debtors (Peabody Energy Corporation and its 152 debtor-affiliates), and the Gold Fields Liquidating Trust was filed with the United States Bankruptcy Court for the Eastern District of Missouri in In re Peabody Energy Corporation, No. 16-42529-399 (Bankr. E.D. Mo.).

The proposed Settlement Agreement will resolve certain proofs of claim asserted against Debtors under the Comprehensive Environmental Response, Compensation and Liability Act (“CERCLA”), 42 U.S.C. 9601-9675, and similar state laws, for costs incurred and to be incurred by the Governments in connection with certain sites, and for natural resource damages and costs of assessment at or in connection with certain sites.

The sites included in the settlement are:

(1) The 5-acre portion of the Former American Zinc, Lead and Smelting Company Site or AZLS in Montgomery County, Kansas also referred to as the “Caney Parcel” or the “Caney Repository” that was previously owned by Gold Fields Mining, LLC.

(2) The Anderson-Calhoun Mine and Mill Superfund Site in Stevens County, Washington.

(3) The ASARCO Taylor Springs Superfund Site in Montgomery County, Illinois.

(4) The Bautsch Gray Mine Superfund Site in Jo Daviess County, Illinois.

(5) The Caney Residential Yards Site in Montgomery County, Kansas.

(6) The Carpenter-Snow Creek Mining District Superfund Site in Cascade County, Montana.

(7) The Cherokee County Superfund Site in Cherokee County, Kansas.

(8) The East La Harpe Smelter Site in Allen County, Kansas.

(9) The Grandview Mine and Mill Superfund Site in Pend Oreille County, Washington.

(10) The Jasper County Superfund Site in Jasper County, Missouri, also known as the Oronogo/Duenweg Mining Belt Site.

(11) The Klondyke Tailings Removal Site in Graham County, Arizona.

(12) The Old American Zinc Plant Superfund Site in St. Clair County, Illinois.

(13) The Tar Creek Superfund Site in Ottawa County, Oklahoma.

The Settlement Agreement includes payments for the above Sites as described therein and certain covenants not to sue under Sections 106 and 107 of CERCLA, 42 U.S.C. 9606 or 9607, and Section 70003 of RCRA, 42 U.S.C. 6973 with respect to the above referenced Sites.

The publication of this notice opens a period for public comment on the Settlement Agreement. Comments should be addressed to the Assistant Attorney General, Environment and Natural Resources Division, and should refer to In re Peabody Energy Corporation, DOJ No. 90-11-3-11582. All comments must be submitted so that they are received by no later than 30 days after the date of publication in the Federal Register. Comments may be submitted either by email or by mail:

To submit comments: | Send them to:
By email | pubcomment-ees.enrd@usdoj.gov.
By mail | Assistant Attorney General, U.S. DOJ—ENRD, P.O. Box 7611, Washington, DC 20044-7611.

Under Section 7003(d) of RCRA, a commenter may request an opportunity for a public meeting in the affected area.

During the public comment period, the Settlement Agreement may be examined and downloaded at this Justice Department Web site: http://www.justice.gov/enrd/consent-decrees. We will provide a paper copy of the Settlement Agreement upon written request and payment of reproduction costs. Please mail your request and payment to: Consent Decree Library, U.S. DOJ—ENRD, P.O. Box 7611, Washington, DC 20044-7611.

Please enclose a check or money order for $ 7.75 (25 cents per page reproduction cost) payable to the United States Treasury.

Susan M. Akers,
Assistant Section Chief, Environmental Enforcement Section, Environment and Natural Resources Division.

[FR Doc. 2017-15199 Filed 7-19-17; 8:45 am]

BILLING CODE 4410-15-P